NUCLEAR REGULATORY COMMISSION

[Docket No. 40-8907]

Notice of Availability of Environmental Assessment and Finding of No Significant Impact for License Amendment for United Nuclear Corporation, Church Rock, NM

AGENCY: Nuclear Regulatory Commission.

ACTION: Notice of availability.

FOR FURTHER INFORMATION CONTACT: Paul Michalak, Project Manager, Fuel Cycle Facilities Branch, Division of Fuel Cycle Safety and Safeguards, Office of Nuclear Material Safety and Safeguards, U.S. Nuclear Regulatory Commission, Washington, DC, 20555. Telephone: (301) 415-7612; fax number: (301) 415-5955; e-mail: pxm2@nrc.gov.

SUPPLEMENTARY INFORMATION:

I. Introduction

The U.S. Nuclear Regulatory Commission (NRC) proposes to issue a license amendment for License Condition 35 (ground water protection standards), to Materials License SUA-1475, for the United Nuclear Corporation (UNC), Church Rock, New Mexico uranium mill site (the Site). The purpose of this amendment is to revise the current chloroform ground water protection standard of 0.001 milligrams per liter (mg/L) to 0.08 mg/L for total trihalomethanes (THMs), and revise the current combined radium-226 and -228 GWPS from 5 pCi/L to 5.2 pCi/L in the Southwest Alluvium and from 5 pci/L to 9.4 pCi/L in Zone 1.

II. EA Summary

The staff has prepared an environmental assessment (EA) in support of the proposed license amendment. Since this action relates to ground water, the primary focus of the evaluation of potential environmental impacts relates to ground water. Ground water is not used as a potable source at, or in, the immediate vicinity of the Site. The closest down-gradient public-use well is about 2,700 meters (8,860 feet) to the northeast. With the exception of the historical mill and mine activity, land use is primarily grazing for sheep, cattle and horses. The area around the Site is sparsely populated and includes Indian Tribal Land as well as UNC-owned property. The primary use of the Indian Tribal Land is grazing. The proposed total THMs ground water protection standard of 0.08 mg/L is one established by the U.S. Environmental Protection Agency (EPA) under the Safe Drinking Water Act, and it represents a thoroughly examined and evaluated maximum allowable drinking water concentration that is considered to be safe by the EPA. With respect to the proposed combined radium-226 and 228 standards, both the proposed standard of 5.2 pCi/L in the Southwest Alluvium and 9.4 pCi/L in Zone 1 represent the 95th percentile background concentrations in their respective saturated units. They were both derived from a large data set collected over a 16 year period and are both below the New Mexico Ground Water Protection Standard of 30 pCi/L.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are as follows:

Document | ADAMS accession No. | Date
License Amendment Request for Changing the Chloroform Ground Water Protection Standard in Source Materials License SUA-1475 | ML052310151 | May 26, 2005.
Revised License Amendment Request for Changing the Chloroform Ground Water Protection Standard in Source Materials License SUA-1475 | ML052100367 | July 14, 2005.
License Amendment Request for Changing the Method of Determining Exceedances of the Combined Radium Groundwater Protection Standard in Source Materials License No. SUA-1475 | ML053010019 | September 30, 2005.
Summary of January 18, 2006 public meeting between NRC and UNC | ML060200298 | January 23, 2006.
Revised License Amendment Request for Changing the Method of Determining Exceedances of the Combined Radium Groundwater Protection Standard in Source Materials License SUA-1475 | ML060730043 | February 22, 2006.
Revised License Amendment Request for Changing the Method of Determining Exceedances of the Combined Radium Groundwater Protection Standard in Source Materials License SUA-1475 | ML061220286 | April 7, 2006.
Environmental Assessment of License Amendment Request for Changing Ground Water Protection Standards in Source Materials License SUA-1475 | ML061870630 | July 21, 2006.

If you do not have access to ADAMS or if there are problems in accessing the documents located in ADAMS, contact the NRC's Public Document Room (PDR) Reference staff at 800-397-4209, 301-415-4737, or by e-mail, to pdr@nrc.gov.

These documents may also be viewed electronically on the public computers located at the NRC's PDR, O1 F21, One White Flint North, 11555 Rockville Pike, Rockville, MD 20852. The PDR reproduction contractor will copy documents for a fee.

Dated at Rockville, Maryland this 26th day of July, 2006.
For The Nuclear Regulatory Commission.
Paul Michalak,
Project Manager, Fuel Cycle Facilities Branch, Division of Fuel Cycle Safety and Safeguards, Office of Nuclear Material Safety and Safeguards.

[FR Doc. E6-12445 Filed 8-1-06; 8:45 am]

BILLING CODE 7590-01-P